DEPARTMENT OF HEALTH AND HUMAN SERVICES

National Institutes of Health

Center For Scientific Review; Amended Notice of Meeting

Notice is hereby given of a change in the meeting of the Macromolecular Structure and Function A Study Section, February 2, 2012, 8 a.m. to February 2, 2012, 7 p.m., George Washington University Inn, 824 New Hampshire Avenue NW., Washington, DC 20037 which was published in the Federal Register on January 4, 2012, 77 FR 296.

The meeting will be held February 2, 2012, from 9 a.m. to 6 p.m. at The Westin Georgetown, 2350 M Street NW., Washington, DC 20037. The meeting is closed to the public.

Dated: January 5, 2012.
Jennifer S. Spaeth,
Director, Office of Federal Advisory Committee Policy.

[FR Doc. 2012-461 Filed 1-11-12; 8:45 am]

BILLING CODE 4140-01-P